DEPARTMENT OF THE INTERIOR

Fish and Wildlife Service

[FWS-R4-ES-2024-N037; FXES11140400000-245-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act. We invite the public and local, State, Tribal, and Federal agencies to comment on these applications. Before issuing any of the requested permits, we will take into consideration any information that we receive during the public comment period.

DATES: We must receive written data or comments on the applications by August 23, 2024.

ADDRESSES: Reviewing Documents: Submit requests for copies of applications and other information submitted with the applications to Karen Marlowe (see FOR FURTHER INFORMATION CONTACT). All requests and comments should specify the applicant's name and application number (e.g., Mary Smith, ESPER0001234).

Submitting Comments: If you wish to comment, you may submit comments by one of the following methods:

• Email (preferred method): permitsR4ES@fws.gov. Please include your name and return address in your email message. If you do not receive a confirmation from the U.S. Fish and Wildlife Service that we have received your email message, contact us directly at the telephone number listed in FOR FURTHER INFORMATION CONTACT.

• U.S. mail: U.S. Fish and Wildlife Service Regional Office, Ecological Services, 1875 Century Boulevard, Atlanta, GA 30345 (Attn: Karen Marlowe, Permit Coordinator).

FOR FURTHER INFORMATION CONTACT: Karen Marlowe, Permit Coordinator, via telephone at 404-679-7097 or via email at karen_marlowe@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a), and the Freedom of Information Act (5 U.S.C. 552).

Background

With some exceptions, the ESA prohibits take of listed species unless a federal permit is issued that authorizes such take. The definition of “take” in the ESA includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) of the ESA for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
ES117405-5 | Tennessee Valley Authority; Knoxville, TN | Gray bat (Myotis grisescens), Indiana bat (Myotis sodalis), northern long-eared bat (Myotis septentrionalis), tricolored bat (Perimyotis subflavus), and Virginia big-eared bat (Corynorhinus townsendii virginianus) | Alabama, Arkansas, Georgia, Kentucky, Mississippi, North Carolina, Tennessee, and Virginia | Presence/probable absence surveys | Swabbing | Renewal and amendment.
ES14105A-3 | Melissa Littrell; Lexington, KY | Tricolored bat (Perimyotis subflavus) | Alabama, Arkansas, Georgia, Illinois, Indiana, Kentucky, Mississippi, Missouri, North Carolina, Ohio, South Carolina, Tennessee, Virginia, and West Virginia | Presence/probable absence surveys | Capture with mist nets or harp traps, handle, identify, band, radio tag, and release | Renewal and amendment.
ES237549-3 | Cory Holliday; Gainesboro, TN | Tricolored bat (Perimyotis subflavus) | Tennessee | Presence/probable absence surveys | Enter hibernacula or maternity roost caves, capture with mist nets or harp traps, handle, identify, collect hair samples, swab, band, radio tag, and release | Renewal and amendment.
ES171545-4 | Ronald Redman; Benton, AR | Tricolored bat (Perimyotis subflavus) | Colorado, Connecticut, District of Columbia, Maine, Massachusetts, Nebraska, New Hampshire, New Mexico, Rhode Island, South Dakota, and Wyoming | Presence/probable absence surveys and white-nose syndrome research | Enter hibernacula or maternity roost caves, capture with mist nets or harp traps, handle, identify, band, radio tag, swab, and release | Renewal and amendment.
ES81492B-2 | Biotope Forestry and Environmental, LLC; Sylva, NC | Tricolored bat (Perimyotis subflavus) | Alabama, Arkansas, Colorado, Connecticut, Delaware, District of Columbia, Florida, Georgia, Illinois, Indiana, Iowa, Kansas, Kentucky, Louisiana, Maine, Maryland, Massachusetts, Michigan, Minnesota, Mississippi, Missouri, Nebraska, New Hampshire, New Jersey, New Mexico, New York, North Carolina, North Dakota, Ohio, Oklahoma, Pennsylvania, Rhode Island, South Carolina, South Dakota, Tennessee, Texas, Vermont, Virginia, West Virginia, Wisconsin, and Wyoming | Presence/probable absence surveys, habitat use and assessment research, population monitoring, and studies to evaluate potential impacts of white-nose syndrome or other potential threats | Capture with mist nets and harp traps, handle, identify, band, radio tag, and release | Amendment.
ES002507-7 | Florida Forest Service, Withlacoochee Forestry Center; Brooksville, FL | Red-cockaded woodpecker (Picoides borealis) | Florida | Population monitoring | Capture, band, monitor nest cavities, construct and monitor artificial nest cavities and restrictors, translocate, and release | Renewal.
ES171518-2 | Ouachita National Forest; Hot Springs, AR | Red-cockaded woodpecker (Picoides borealis) and American burying beetle (Nicrophorus americanus) | Alabama, Arkansas, Florida Georgia, Louisiana, Mississippi, North Carolina, Oklahoma, South Carolina, Tennessee, and Texas | Population management and monitoring and presence/probable absence surveys | Red-cockaded woodpecker: capture, handle, band, monitor nest cavities, construct and monitor artificial nest cavities and restrictors, translocate, and release; American burying beetle: live trap and release | Renewal and amendment.
ES12392A-4 | The Institute for Marine Mammal Studies; Gulfport, MS | Green sea turtle (Chelonia mydas), Kemp's ridley sea turtle (Lepidochelys kempii), and loggerhead sea turtle (Caretta caretta) | Mississippi | Scientific research | Attach satellite transmitters to turtles prior to release from rehabilitation facility | Amendment.
PER9860588-0 | Pennsylvania Fish and Boat Commission; Bellefonte, PA | Clubshell (Pleurobema clava), Northern riffleshell (Epioblasma rangiana), rayed bean (Villosa fabalis), salamander mussel (Simpsonaias ambigua), sheepnose mussel (Plethobasus cyphyus), and snuffbox mussel (Epioblasma triquetra) | Pennsylvania | Captive propagation for reintroduction and research | Collect gravid females, remove glochidia, return females to the wild, retain glochidia in captivity to grow out for reintroduction and research | New.
PER10116282-0 | Christopher Thigpen; Jonesboro, AR | Northern long-eared bat (Myotis septentrionalis) | Arkansas, Kentucky, Louisiana, Missouri, Oklahoma, and Tennessee | Presence/probable absence surveys | Capture with mist nets, handle, identify, band, radio tag, and release | New.
PER10115889-0 | Sharna Tolfree; Columbia, SC | Red-cockaded woodpecker (Picoides borealis) | Florida, Georgia, North Carolina, South Carolina, and Virginia | Population management and monitoring and presence/probable absence surveys | Capture, handle, band, monitor nest cavities, construct and monitor artificial nest cavities, translocate, and release | New.
PER10145221-0 | Bonnie Porter; New Orleans, LA | Gray bat (Myotis grisescens), Indiana bat (Myotis sodalis), northern long-eared bat (Myotis septentrionalis), and tricolored bat (Perimyotis subflavus) | Alabama, Arkansas, Colorado, Connecticut, Delaware, District of Columbia, Florida, Georgia, Illinois, Indiana, Iowa, Kansas, Kentucky, Louisiana, Maine, Maryland, Massachusetts, Michigan, Minnesota, Mississippi, Missouri, Nebraska, New Hampshire, New Jersey, New Mexico, New York, North Carolina, North Dakota, Ohio, Oklahoma, Pennsylvania, Rhode Island, South Carolina, South Dakota, Tennessee, Texas, Vermont, Virginia, West Virginia, Wisconsin, and Wyoming | Presence/probable absence surveys | Capture with mist nets, handle, identify, band, radio tag, and release | New.
PER10145867-0 | Mississippi State University; Biloxi, MS | Northern long-eared bat (Myotis septentrionalis) and tricolored bat (Perimyotis subflavus) | Mississippi | Presence/probable absence surveys and habitat-use monitoring | Capture with mist nets, handle, and release | New.
ES56588D-3 | Martin Melville; Marietta, GA | Flattened musk turtle (Sternotherus depressus), Black Warrior waterdog (Necturus alabamensis), frecklebelly madtom (Noturus munitus), sickle darter (Percina williamsi), longsolid (Fusconaia subrotunda), and round hickorynut (Obovaria subrotunda) | Alabama, Georgia, Kentucky, North Carolina, Tennessee, and Virginia | Presence/probable absence surveys | Capture, handle, identify, and release | Amendment.
PER0030365-1 | Gregory Myers; Wheeling, WV | Clubshell (Pleurobema clava), fanshell (Cyprogenia stegaria), fat pocketbook (Potamilus capax), James spinymussel (Parvaspina collina), longsolid (Fusconaia subrotunda), northern riffleshell (Epioblasma rangiana), pink mucket (pearlymussel) (Lampsilis abrupta), purple cat's paw (Epioblasma obliquata), rabbitsfoot (Quadrula cylindrica cylindrica), rayed bean (Villosa fabalis), round hickorynut (Obovaria subrotunda), sheepnose (Plethobasus cyphyus), snuffbox (Epioblasma triquetra), spectaclecase (Cumberlandia monodonta), white catspaw (Epioblasma perobliqua), and white wartyback (Plethobasus cicatricosus) | Illinois, Indiana, Iowa, Kentucky, Michigan, Minnesota, New York, North Carolina, Ohio, Pennsylvania, Tennessee, Virginia, West Virginia, and Wisconsin | Presence/probable absence surveys | Capture, handle, identify, tag, and release | Amendment.
PER10878815-0 | HGS Engineering, Inc; Anniston, AL | Red-cockaded woodpecker (Picoides borealis) | Alabama, North Carolina, and South Carolina | Presence/probable absence surveys and population monitoring | Examine active cavities with a mirror and droplight or a video probe | New.
PER10877733-0 | Nicholas Sharp; Somerville, AL | Gray bat (Myotis grisescens), Indiana bat (Myotis sodalis), northern long-eared bat (Myotis septentrionalis), and tricolored bat (Perimyotis subflavus) | Alabama, Arkansas, Colorado, Connecticut, Delaware, District of Columbia, Florida, Georgia, Illinois, Indiana, Iowa, Kansas, Kentucky, Louisiana, Maine, Maryland, Massachusetts, Michigan, Minnesota, Mississippi, Missouri, Nebraska, New Hampshire, New Jersey, New Mexico, New York, North Carolina, North Dakota, Ohio, Oklahoma, Pennsylvania, Rhode Island, South Carolina, South Dakota, Tennessee, Texas, Vermont, Virginia, West Virginia, Wisconsin, and Wyoming | Presence/probable absence surveys | Enter hibernacula or maternity roost caves, capture with mist nets or harp traps, handle, identify, band, radio tag, and release | New.
ES041314-7 | U.S. Army, Fort Johnson; Fort Johnson, LA | Red-cockaded woodpecker (Picoides borealis) and Louisiana pinesnake (Pituophis ruthveni) | Arkansas, Louisiana, Oklahoma, and Texas | Population management and monitoring and screening for disease | Red-cockaded woodpecker: capture, band, translocate, monitor nest cavities, construct and monitor artificial nest cavities and restrictors; Louisiana pinesnake: capture, handle, measure, weigh, PIT tag, swab, remove radio transmitters, and collect blood, fecal, and shed skin samples | Renewal and amendment.
PER11091263-0 | Garrett Hopper; Baton Rouge, LA | Fishes: Blue shiner (Cyprinella caerulea), Cahaba shiner (Notropis cahabae), goldline darter (Percina aurolineata), pallid sturgeon (Scaphirhynchus albus), and Alabama sturgeon (Scaphirhynchus suttkusi); Mussels: Fanshell (Cyprogenia stegaria), dromedary pearlymussel (Dromus dromas), purple bankclimber (Elliptoideus sloatianus),Cumberlandian combshell (Epioblasma brevidens), oyster mussel (Epioblasma capsaeformis), southern combshell (Epioblasma penita), snuffbox (Epioblasma triquetra), shiny pigtoe (Fusconaia cor), finerayed pigtoe (Fusconaia cuneolus), longsolid (Fusconaia subrotunda), finelined pocketbook (Hamiota altilis), orangenacre mucket (Hamiota perovalis), shinyrayed pocketbook (Hamiota subangulata), pink mucket (Lampsilis abrupta), Alabama lampmussel (Lampsilis virescens), Louisiana pearlshell (Margaritifera hembeli), Alabama pearlshell (Margaritifera marrianae), Alabama moccasinshell (Medionidus acutissimus), Coosa moccasinshell (Medionidus parvulus), ring pink (Obovaria retusa), round hickorynut (Obovaria subrotunda), southern clubshell (Pleurobema decisum), southern pigtoe (Pleurobema georgianum), ovate clubshell (Pleurobema perovatum), fuzzy pigtoe (Pleurobema strodeanum), slabside pearlymussel (Pleuronaia dolabelloides), fat pocketbook (Potamilus capax), inflated heelsplitter (Potamilus inflatus), triangular kidneyshell (Ptychobranchus greenii), southern kidneyshell (Ptychobranchus jonesi), rabbitsfoot (Quadrula cylindrica cylindrica), and pale lilliput (Toxolasma cylindrellus) | Alabama, Louisiana, Mississippi, and Tennessee | Presence/probable absence surveys | Capture, handle, and release | New.
ES810274-15 | Peter Droppelman; Louisville, KY | Mammals: Tricolored bat (Perimyotis subflavus); Mussels: Longsolid (Fusconaia subrotunda), green floater (Lasmigona subviridis), Cumberland moccasinshell (Medionidus conradicus), round hickorynut (Obovaria subrotunda), Tennessee clubshell (Pleurobema oviforme), Tennessee pigtoe (Pleuronaia barnesiana), and salamander mussel (Simpsonaias ambigua) | Alabama, Arkansas, Colorado, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New Mexico, New York, North Carolina, North Dakota, Ohio, Oklahoma, Pennsylvania, Rhode Island, South Carolina, South Dakota, Tennessee, Texas, Vermont, Virginia, West Virginia, Wisconsin, and Wyoming | Presence/probable absence surveys | Tricolored bat: capture with mist nets or harp traps, handle, identify, band, radio tag, and release; Mussels: capture, identify, mark, release, collect relic shells | Amendment.
PER11108599-0 | Julie Weckworth, University of Montana; Missoula, MT | Tricolored bat (Perimyotis subflavus) | Alabama, Connecticut, Georgia, Massachusetts, Michigan, New Hampshire, Pennsylvania, Tennessee, Texas, and Wisconsin | Scientific research | Capture with harp trap, mist net, or hand-held hoop net, handle, identify, wing punch, swab, PIT tag, and release | New.

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

After the comment period closes, we will make decisions regarding permit issuance. If we issue permits to any of the applicants listed above in this notice, we will publish a subsequent notice in the Federal Register. You may locate the notice announcing the permit issuance by searching https://www.regulations.gov for the application number listed above in this document. Type in your search exactly as the application number appears above, with spaces and hyphens as necessary. For example, to find information about the potential issuance of Permit No. PER 1234567-0, you would go to https://www.regulations.gov and put “PER 1234567-0” in the Search field.

Authority

We publish this notice under section 10(c) of the Endangered Species Act of 1973, as amended (16 U.S.C. 1531 et seq.).

Cheri Frazell,
Acting Deputy Assistant Regional Director, Ecological Services, Southeast Region.

[FR Doc. 2024-16243 Filed 7-23-24; 8:45 am]

BILLING CODE 4333-15-P